DEPARTMENT OF ENERGY

Federal Energy Regulatory Commission

[Project No. 6731-013]

Coneross Power Corporation; Notice of Intent To File License Application, Filing of Pre-Application Document, Approving Use of the Traditional Licensing Process

a. Type of Filing: Notice of Intent to File License Application and Request to Use the Traditional Licensing Process.

b. Project No.: 6731-013.

c. Date Filed: February 26, 2016.

d. Submitted By: Coneross Power Corporation.

e. Name of Project: Coneross Hydroelectric Project.

f. Location: On Coneross Creek, in Oconee County, South Carolina. No federal lands are occupied by the project works or located within the project boundary.

g. Filed Pursuant to: 18 CFR 5.3 of the Commission's regulations.

h. Potential Applicant Contact: Beth E. Harris, Enel Green Power North America, Inc., 11 Anderson Street, Piedmont, SC 29673; (864) 846-0042 ext. 100; email—Beth.Harris@Enel.com.

i. FERC Contact: Adam Peer at (202) 502-8449; or email at adam.peer@ferc.gov.

j. Coneross Power Corporation filed its request to use the Traditional Licensing Process on February 26, 2016. Coneross Power Corporation provided public notice of its request on March 1, 2016 and March 9, 2016. In a letter dated June 10, 2016, the Director of the Division of Hydropower Licensing approved Coneross Power Corporation's request to use the Traditional Licensing Process.

k. With this notice, we are initiating informal consultation with the U.S. Fish and Wildlife Service under section 7 of the Endangered Species Act and the joint agency regulations thereunder at 50 CFR, part 402. We are also initiating consultation with the South Carolina State Historic Preservation Officer, as required by section 106, National Historic Preservation Act, and the implementing regulations of the Advisory Council on Historic Preservation at 36 CFR 800.2.

l. With this notice, we are designating Coneross Power Corporation as the Commission's non-federal representative for carrying out informal consultation pursuant to section 7 of the Endangered Species Act and consultation pursuant to section 106 of the National Historic Preservation Act.

m. Coneross Power Corporation filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. The licensee states its unequivocal intent to submit an application for a new license for Project No. 6731-013. Pursuant to 18 CFR 16.8, 16.9, and 16.10 each application for a new license and any competing license applications must be filed with the Commission at least 24 months prior to the expiration of the existing license. All applications for license for this project must be filed by February 28, 2019.

p. Register online at http://www.ferc.gov/docs-filing/esubscription.asp to be notified via email of new filing and issuances related to this or other pending projects. For assistance, contact FERC Online Support.

Dated: June 15, 2016.
Kimberly D. Bose,
Secretary.

[FR Doc. 2016-14598 Filed 6-20-16; 8:45 am]

BILLING CODE 6717-01-P